DEPARTMENT OF COMMERCE

National Oceanic and Atmospheric Administration

50 CFR Part 622

[Docket No. 100217097-1757-02; RTID 0648-XB419]

Reef Fish Fishery of the Gulf of Mexico; 2021 Commercial and Recreational Closure of Silk Snapper, Queen Snapper, Blackfin Snapper, and Wenchman

AGENCY: National Marine Fisheries Service (NMFS), National Oceanic and Atmospheric Administration (NOAA), Commerce.

ACTION: Temporary rule; closure.

SUMMARY: NMFS implements an accountability measure (AM) applicable to all harvest of species in the mid-water snapper stock complex, consisting of silk snapper, queen snapper, blackfin snapper, and wenchman in the Gulf of Mexico (Gulf) exclusive economic zone (EEZ). NMFS determined that combined commercial and recreational landings of the species in the mid-water snapper complex in the 2021 fishing year have exceeded the annual catch limit (ACL). Therefore, NMFS closes the Gulf EEZ to all harvest of species in the mid-water snapper complex on September 18, 2021, for the remainder of the 2021 fishing year. This closure is necessary to protect the species in the mid-water snapper complex.

DATES: The closure is effective at 12:01 a.m., local time, September 18, 2021, until January 1, 2022.

FOR FURTHER INFORMATION CONTACT: Kelli O'Donnell, NMFS Southeast Regional Office, telephone: 727-824-5305, email: kelli.odonnell@noaa.gov.

SUPPLEMENTARY INFORMATION: NMFS manages the Gulf reef fish fishery, which includes the mid-water snapper complex (silk snapper, queen snapper, blackfin snapper, and wenchman) under the Fishery Management Plan for the Reef Fish Resources of the Gulf of Mexico (FMP). The FMP was prepared by the Gulf of Mexico Fishery Management Council. The FMP is implemented by NMFS under the authority of the Magnuson-Stevens Fishery Conservation and Management Act (Magnuson-Stevens Act) by regulations at 50 CFR part 622. All weights described in this temporary rule apply as round weight.

The ACL for the mid-water snapper complex is 166,000 lb (75,296 kg) during the fishing year of January 1 through December 31. As specified in 50 CFR 622.41(i), if NMFS estimates that the sum of commercial and recreational landings (total landings) exceed the stock complex ACL, then during the following fishing year, if total landings again reach or are projected to reach the stock complex ACL, NMFS will close the commercial and recreational sectors for the remainder of that fishing year by filing a notification to that effect with the Office of the Federal Register.

In the 2020 fishing year, combined commercial and recreational landings of species in the mid-water snapper complex exceeded the stock ACL. As of September 7, 2021, available commercial and recreational landings data from the NMFS Southeast Fishery Science Center indicate that stock ACL for the mid-water snapper complex for the 2021 fishing year has been exceeded.

Accordingly, NMFS closes the Gulf EEZ to all harvest of species from the mid-water snapper complex from 12:01 a.m., local time, on September 18, 2021, through December 31, 2021, the end of the current fishing year. During the closure, the commercial sale or purchase of species from the mid-water snapper complex harvested from the Gulf EEZ is prohibited, and the recreational bag and possession limits are zero. Commercial and recreational harvest of species in the mid-water snapper complex will reopen on January 1, 2022.

Classification

NMFS issues this action pursuant to section 305(d) of the Magnuson-Stevens Act. This action is required by 50 CFR 622.41(i), which was issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the rule implementing the stock complex ACL and the associated AM has already been subject to notice and public comment, and all that remains is to notify the public of the closure. Such procedures are also contrary to the public interest because of the need to immediately implement the closure to protect the mid-water snapper stock complex. The capacity of the fishing fleet allows for rapid harvest of the ACL and the ACL has already been met. Prior notice and opportunity for public comment would require time and could result in additional harvest.

For the aforementioned reasons, there is good cause to waive the 30-day delay in the effectiveness of this action under 5 U.S.C. 553(d)(3).

Authority: 16 U.S.C. 1801 et seq.

Dated: September 15, 2021.
Jennifer M. Wallace,
Acting Director, Office of Sustainable Fisheries, National Marine Fisheries Service.

[FR Doc. 2021-20285 Filed 9-15-21; 4:15 pm]

BILLING CODE 3510-22-P